DEPARTMENT OF ENERGY

Federal Energy Regulatory Commission

[Project No. 15276-000]

Rye Hildebrand Hydroelectric, LLC; Notice of Preliminary Permit Application Accepted for Filing and Soliciting Comments, Motions To Intervene, and Competing Applications

On June 6, 2022, Rye Hildebrand Hydroelectric, LLC, filed an application for a preliminary permit, pursuant to section 4(f) of the Federal Power Act (FPA), proposing to study the feasibility of the Hildebrand Lock/Dam Hydroelectric Project to be located at the existing U.S. Army Corps of Engineers Pittsburgh District Hildebrand Lock/Dam located on the Monongahela River at Hilderbrand, Monongalia County, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) a 405-acre impoundment with a normal volume of 7,600 acre-feet at a normal maximum surface elevation of 835.0 feet mean sea level; (2) an existing 649-foot-long, 64-foot-high concrete gravity dam with a 600-foot-long, 84-foot-wide lock and six 60-foot-wide, 21-foot-high tainter gates; (3) a new 100-foot-long, 70-foot-wide intake section with trashracks; (4) two new 3-megawatt horizontal Kaplan bulb turbine/generator units; (5) a new 90-foot-long, 60-foot-wide concrete powerhouse; (6) a new three-phase, 36.7-kilovolt (kV), 1,000-foot-long transmission line; (7) a new 50-foot-long, 50-foot-wide substation with a new 10-megavolt-amperes 4.16/36.7-kV three-phase step-up transformer; (8) a new 150-foot-long, 70-foot-wide tailrace; and (9) appurtenant facilities. The proposed project would have an annual generation of 28,000 megawatt-hours.

Applicant Contact: Michael Rooney, Rye Hildebrand Hydroelectric, LLC, 100 S Olive Street, West Palm Beach, FL 33401; phone: (412) 400-4186.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15276-000.

More information about this project, including a copy of the application, can be viewed or printed on the “eLibrary” link of the Commission's website at http://www.ferc.gov/docs-filing/elibrary.asp. Enter the docket number (P-15276) in the docket number field to access the document. For assistance, contact FERC Online Support.

Dated: July 28, 2022.
Kimberly D. Bose,
Secretary.

[FR Doc. 2022-16594 Filed 8-2-22; 8:45 am]

BILLING CODE 6717-01-P